DEPARTMENT OF THE INTERIOR

National Park Service

Announcement of the National Park Service (NPS) Subsistence Resource Commission (SRC) Meetings Within the Alaska Region

AGENCY: National Park Service, Interior.

SUMMARY: The National Park Service (NPS) announces the SRC meeting schedule for the following NPS areas: Denali National Park, Aniakchak National Monument, Lake Clark National Park, Wrangell-St. Elias National Park, Cape Krusenstern National Monument and Kobuk Valley National Park. The purpose of each meeting is to develop and continue work on subsistence hunting program recommendations and other related subsistence management issues. Each meeting is open to the public and will have time allocated for public testimony. The public is welcomed to present written or oral comments to the SRC.

The NPS SRC program is authorized under Title VIII, Section 808, of the Alaska National Interest Lands Conservation Act, Public Law 96-487, to operate in accordance with the provisions of the Federal Advisory Committee Act. Draft meeting minutes will be available upon request from each Superintendent for public inspection approximately six weeks after each meeting.

DATES: The Denali National Park SRC meeting will be held from 9 a.m. to 5 p.m. on Friday, February 10, 2006.

Location: The Denali NP & P meeting will be held the Cantwell Community Hall in Cantwell, AK.

For Further Information Contact: Paul Anderson, Superintendent and Scott Hayden, Subsistence Manager, Denali National Park and Preserve, SRC P.O. Box 9, McKinley Park, AK 99755, telephone: (907) 683-2294 and (907) 683-9544. E-mail: Scott_Hayden@nps.gov.

Date: The Aniakchak National Monument SRC meeting will be held from 12:30 p.m. to 4 p.m., Monday, February 13, 2006.

Location: The meeting will be held at the Chignik Lake Subsistence Office.

For Further Information Contact: Mary McBurney, Subsistence Manager, Aniakchak National Monument and Preserve, c/o Katmai National Park & Preserve, P.O. Box 7, King Salmon, AK 99614, telephone: (907) 271-3751. Fax: (907) 271-3707. E-mail: Mary_McBurney@nps.gov.

Date: The Lake Clark National Park SRC meeting will be held from 12:30 p.m. to 4 p.m., Thursday, February 16, 2006.

Location: The meeting will be held in Pedro Bay, AK.

For Further Information Contact: Mary McBurney, Subsistence Manager, Lake Clark National Park and Preserve, 4230 University Drive, Suite 311, Anchorage, AK 99508, telephone: (907) 271-3751. Fax: (907) 271-3707. E-mail: Mary_McBurney@nps.gov.

Date: The Wrangell-St. Elias National Park SRC meeting will be held from 9 a.m. to 5 p.m., Wednesday, February 22 and 9 a.m. to 5 p.m., Thursday, February 23, 2006,

Location: The meeting will be held at the Caribou Restaurant, Glennallen, AK.

For Further Information Contact: Barbara Cellarius, Subsistence Manager/Cultural Anthropologist, Wrangell-St. Elias National Park and Preserve, P.O. Box 439, Copper Center, AK 99573, telephone: (907) 822-7236 or (907) 822-5234. Fax: (907) 822-7259. E-mail: Barbara_Cellarius@nps.gov.

Date: The Cape Krusenstern National Monument SRC meeting will be held from 9 a.m. to approximately 5 p.m., Wednesday, March 1, 2006 and the Kobuk Valley National Park SRC meeting will be held from 9 a.m. to approximately 5 p.m., Thursday, March 2, 2006.

Location: The meetings will be held at the U.S. Fish and Wildlife Service Office in Kotzebue, Alaska.

For Further Information Contact: Ken Adkisson, Subsistence Program Manager, Western Arctic National Parklands, P.O. 1029, Kotzebue, AK 99752, telephone (907) 443-2522 or Willie Goodwin, Subsistence Manager at (907) 442-3890.

SUPPLEMENTARY INFORMATION: SRC meeting locations and dates may need to be changed based on weather or local circumstances. If meeting dates and locations are changed notice of each meeting will be published in local newspapers and announced on local radio stations prior to the meeting dates.

The agendas for each meeting include the following:

1. Call to order (SRC Chair)

2. SRC Roll Call and Confirmation of Quorum

3. SRC Chair and Superintendent's Welcome and Introductions

4. Review and Approve Agenda

5. Review and adopt minutes from last meeting

6. Status of SRC Membership—If Needed, Election of Chair and Vice Chair

7. Commission Member Reports

8. Superintendent and NPS Staff Reports

9. Federal Subsistence Board Update

a. Wildlife Proposals

b. Fisheries Proposals

c. Rural Determinations

10. Board of Game and Board of Fisheries Update

11. New Business

12. Agency and Public Comments

13. SRC Work Session. Prepare correspondence and hunting program recommendations.

14. Set time and place of next SRC meeting

Adjournment

Marcia Blaszak,
Director, Alaska Region.

[FR Doc. E6-229 Filed 1-11-06; 8:45 am]

BILLING CODE 4312-HE-P